DEPARTMENT OF TRANSPORTATION

National Highway Traffic Safety Administration

49 CFR Part 571

[Docket No. NHTSA-2009-0108]

Vehicle Safety Rulemaking and Research Priority Plan 2009-2011

AGENCY: National Highway Traffic Safety Administration (NHTSA), Department of Transportation (DOT).

ACTION: Request for comments.

SUMMARY: The purpose of this request for comments is to solicit and acquire public comment on the NHTSA's “Vehicle Safety Rulemaking and Research Priority Plan 2009-2011.” The plan is not an exhaustive list. Only programs and projects that are priorities or will take significant agency resources are listed. Furthermore, NHTSA's enforcement, data collection, and analysis programs—vital elements in achieving NHTSA's goals—have their own set of priorities that are not listed here. Each of these programs supports NHTSA's rulemaking and research priorities by providing necessary safety data, economic analysis, expertise on test procedures, and technical issues gleaned from enforcement experience. The plan is an internal management tool as well as a means to communicate to the public NHTSA's highest priorities to meet the Nation's motor vehicle safety challenges. Among them are programs and projects involving rollover crashes, children (both inside as well as just near vehicles), motorcoaches and fuel economy that must meet Congressional mandates or Secretarial commitments. NHTSA is also currently in the process of developing a longer-term motor vehicle safety strategic plan that would encompass the period 2012 to 2020., and will be announced in a separate Federal Register notice.

DATES: Comments must be received no later than August 31, 2009.

ADDRESSES: You may submit comments [identified by Docket No. NHTSA-2009-0108] by any of the following methods:

• Federal eRulemaking Portal: Go to http://www.regulations.gov. Follow the online instructions for submitting comments.

• Mail: Docket Management Facility, U.S. Department of Transportation, 1200 New Jersey Avenue, SE., West Building Ground Floor, Room W12-140, Washington, DC 20590.

• Hand Delivery or Courier: West Building Ground Floor, Room W12-140, 1200 New Jersey Avenue, SE., Washington, DC between 9 a.m. and 5 p.m. ET, Monday through Friday, except Federal holidays. Telephone: 1-800-647-5527.

• Fax: 202-493-2251.

Instructions: All submissions must include the agency name and docket number. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.dot.gov/privacy.html.

Docket: For access to the docket to read background documents or comments received, go to http://www.regulations.gov and follow the online instructions, or visit Docket Management Facility at the street address listed above.

FOR FURTHER INFORMATION CONTACT: Dr. Joseph Carra, Director of Strategic Planning and Integration, National Highway Traffic Safety Administration, Room W48-318, 1200 New Jersey Avenue, SE., Washington, DC 20590. Telephone: 202-366-0361. E-mail: joseph.carra@dot.gov.

SUPPLEMENTARY INFORMATION:

I. Introduction

Motor vehicle crashes killed more than 41,000 people and injured nearly 2.5 million others in more than 6 million police-reported crashes in 2007. In addition to the terrible personal toll, these crashes make a huge economic impact on our society with an estimated annual cost of $230 billion,¹ an average of $750 for every person in the United States.

¹ These estimates are in year 2000 dollars.

Motor vehicle crashes can be viewed through several different perspectives:

• Vehicle type;

• Crashworthiness;

• Crash avoidance;

• Crash partners;

• Body region injured; and

• Societal costs.

Passenger vehicles still account for the majority of fatalities (70% or 28,933 fatalities), but also account for 92 percent of the vehicle miles traveled (VMT).

From the crashworthiness perspective, NHTSA looks at occupant fatalities or crash types by what part of the vehicle was struck first. Typically for passenger vehicles the initial impact point in fatal crashes would be frontal in 55 percent of fatalities, side impacts in 28 percent, non-collision (rollovers) in 8 percent, rear impacts in 5 percent, and others in 4 percent. However, rollovers can be examined as the initial impact, or as any event in the crash. If rollovers are examined as any event in the crash, almost 10,200 fatalities occur per year in rollovers, or about one-third of the passenger vehicle total.

From the crash avoidance perspective, NHTSA looks at types of crashes that might be mitigated by new technologies. Based on the General Estimates System (GES) and the Fatality Analysis Reporting System (FARS), four types of crashes total 85 percent of all crashes. These include Run-Off-Road (23%), Rear-End (28%), Lane Change (9%), and Crossing Path (25%). Those same four types of crashes also equal 75 percent of all road fatalities. These include Run-Off-Road (41%), Rear-End (5%), Lane Change (4%), and Crossing Path (14%).

The fourth perspective of looking at motor vehicle crashes is crash type with respect to what the vehicle impacted, if anything. For both passenger cars and light trucks, frontal crashes with other motor vehicles account for the highest percentage of crash fatalities, 32 percent and 37 percent respectively. For passenger cars, side impacts with other motor vehicles and impact with fixed objects both account for 18 percent of fatalities. In fatal crashes involving light trucks, non-collisions (rollovers) remain an issue, accounting for 23 percent of crash fatalities.

A fifth and a sixth perspectives are those of body region injured and societal costs. Brain injuries and ankle and knee injuries that have long-term disability associated with them have very high societal costs.

NHTSA looks at crashes from all these different perspectives in determining the priorities for the agency. Countermeasures affect different types of crashes in different ways and have to be examined individually and compared to the applicable target population.

Programs and projects that warrant priority consideration fall into the following four categories: (1) large safety benefits; (2) vulnerable populations; (3) high-occupancy vehicles; and (4) other considerations

Programs and projects that are in Category 1, large benefits, have the potential for large safety benefits based upon factors such as:

• The size of the target population;

• The effectiveness of countermeasures and their potential to save lives and prevent injuries;

• The availability and practicability of these countermeasures; and

• The potential that countermeasures could be developed in the future that could be reasonably effective against a large target population.

It should be noted that some projects require additional research before specific countermeasures and their benefits can be identified and therefore the priority designation is based on the agency's judgment of potential safety impacts.

Programs and projects in Category 2, vulnerable populations, affect children, older people, the vision-impaired, or other populations that are considered vulnerable.

Category 3, high-occupancy vehicles, involves buses or motorcoaches and other high-occupancy vehicles.

Category 4, other considerations, includes priority projects that may not be captured in the other categories, but either reduce the impact of motor vehicles on energy security or address other specific items.

The plan also includes a list of other significant programs and projects that the agency believes it will work on in the 2009-2011 timeframe. This area is fluid, because the agency receives petitions that require action, Congress may request that the agency address other areas, the Administration may set additional and/or different priorities, or some event may influence NHTSA's priority agenda.

Some programs and projects described in the plan require additional research before any rulemaking action can be taken. These programs may not be priorities now because NHTSA is not confident that an effective countermeasure can be found. However, with research going on, there is the possibility that countermeasures may be discovered that have the significant death and injury reduction benefits.

Since these are expected to consume a significant portion of the agency's rulemaking resources, they affect the schedules of the agency's other priorities listed in this plan. The concept of this plan, in terms of timing, is a little different than the 5-year priority plans that the agency has issued in the past. This plan lists the programs and projects the agency anticipates working on even though there may not be a rulemaking planned to be issued by 2011, and in several cases, the agency doesn't anticipate that the research will be done by the end of 2011. Thus, in some cases the next step would be an agency decision in 2012 or 2013.

The projects listed in the plan have been divided into the following program areas: Light-vehicle crash avoidance and mitigation advanced technologies, motorcycles, rollovers, front-impact occupant protection, side-impact occupant protection, rear-seat occupant protection, children, older people, global technical regulations (international harmonization), heavy vehicles, CAFE, and others (a catchall category for projects that don't fit in the listed program areas).

Crash avoidance projects and programs are listed first because their focus is on the first opportunity to save lives and reduce injuries by preventing crashes in the first place. In addition they serve to reduce property damage and traffic congestion that are the inevitable result of most crashes.

NHTSA seeks public review and comment on the planning document. Comments received will be evaluated and incorporated, as appropriate, into the planned agency activities. Interested persons may obtain a copy of the plan, “Vehicle Safety Rulemaking and Research Priority Plan 2009-2011,” by downloading a copy of the document. To download a copy of the document, go to http://www.regulations.gov and follow the online instructions, or visit Docket Management Facility at the street address listed above under ADDRESSES and reference Docket No. NHTSA-2009-0108.

II. Submission of Comments

How Do I Prepare and Submit Comments?

Your comments must be written and in English. To ensure that your comments are correctly filed in the Docket, please include the Docket number of this document in your comments. Please submit two copies of your comments, including attachments, to Docket Management at the address given above under ADDRESSES. Comments may also be submitted to the docket electronically by logging onto http://www.regulations.gov. Click on “How to Use This Site” and then “User Tips” to obtain instructions for filing the document electronically.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, you should submit three copies of your complete submission, including the information you claim to be confidential business information, to the Chief Counsel, NHTSA, at the address given above under FOR FURTHER INFORMATION CONTACT. In addition, you should submit a copy from which you have deleted the claimed confidential business information to the docket. When you send a comment containing information claimed to be confidential business information, you should include a cover letter setting forth the information specified in our confidential business information regulation. (49 CFR part 512).

Will the Agency Consider Late Comments?

We will consider all comments that Docket Management receives before the close of business on the comment closing date indicated above under DATES. To the extent possible, we will also consider comments that Docket Management receives after that date. If a comment is received too late for us to consider it in developing a final plan, we will consider that comment as an informal suggestion for future revisions of the plan.

How Can I Read the Comments Submitted by Other People?

You may read the comments received by Docket Management at the address given above under ADDRESSES. The hours of the Docket are indicated above in the same location. You may also see the comments on the Internet. To read the comments on the Internet, take the following steps:

1. Go to http://www.regulations.gov.

2. On that page, in the field marked “search,” type in the docket number provided at the top of this document.

3. The next page will contain results for that docket number; it may help you to sort by “Date Posted: Oldest to Recent.”

4. On the results page, click on the desired comments. You may download the comments. However, since the comments are imaged documents, instead of word processing documents, the downloaded comments may not be word searchable.

Please note that even after the comment closing date, we will continue to file relevant information in the Docket as it becomes available. Accordingly, we recommend that you periodically check the Docket for new material.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.dot.gov/privacy.html.

Authority: 49 U.S.C. 30111, 30117, 30168; delegation of authority at 49 CFR 1.50 and 501.8.

Issued on: June 25, 2009.
Ronald L. Medford,
Senior Associate Administrator for Vehicle Safety.

[FR Doc. E9-15523 Filed 6-30-09; 8:45 am]

BILLING CODE 4910-59-P